FEDERAL COMMUNICATIONS COMMISSION

[PS Docket No. 07-114; DA 09-2397]

E911 Location Accuracy

AGENCY: Federal Communications Commission.

ACTION: Notice.

SUMMARY: In this document, the Federal Communications Commission seeks to refresh the record in the proceeding regarding service rules for wireless Enhanced 911 (E911) Phase II location accuracy and reliability. The Public Notice seeks comment on whether, since the most recent activity in the docket, subsequent developments in the industry and technology may have affected parties' positions on the issues raised. The intended effect of this document is to provide an updated record for the Commission to fully consider what service rules concerning location accuracy and reliability might be adopted.

DATES: Comments are due November 20, 2009. Reply Comments are due December 4, 2009.

ADDRESSES: All filings must be addressed to: Marlene H. Dortch, Office of the Secretary, Federal Communications Commission, 445 12th Street, SW., Washington, DC 20554. Parties must also serve one copy with the Commission's copy contractor, Best Copy and Printing, Inc. (BCPI), Portals II, 445 12th Street, SW., Room CY-B402, Washington, DC 20554, (202) 488-5300, or via e-mail to fcc@bcpiweb.com. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class, Express, and Priority mail should be addressed to 445 12th Street, SW., Washington, DC 20554. In addition to filing comments with the Secretary, a copy of any comments on the Paperwork Reduction Act information collection requirements contained herein should be submitted to the Federal Communications Commission via e-mail to PRA@fcc.gov and to Nicholas A. Fraser, Office of Management and Budget, via e-mail to Nicholas_A._Fraser@omb.eop.gov or via fax at 202-395-5167.

FOR FURTHER INFORMATION CONTACT: David Siehl, Public Safety and Homeland Security Bureau, (202) 418-1313, david.siehl@fcc.gov. For additional information concerning the Paperwork Reduction Act information collection requirements that this document contains, send an e-mail to PRA@fcc.gov or contact Judith Boley Herman at (202) 418-0214.

SUPPLEMENTARY INFORMATION: By this Public Notice, DA 09-2397, released November 6, 2009, the Public Safety and Homeland Security Bureau (Bureau) seeks to refresh the record in the above-referenced docket addressing location accuracy standards for wireless E911 calls. In light of the passage of time since the most recent activity in this docket, we seek comment on whether subsequent developments in the industry and technology may have affected parties' positions on the issues raised.

Recent developments in this proceeding include the vacatur and remand of the Commission's 2007 Report and Order in this proceeding, the submission by the Association of Public Safety Communications Officials-International (APCO), the National Emergency Number Association (NENA), Verizon Wireless, Sprint Nextel Corporation, and AT&T of written ex parte letters recommending new E911 accuracy requirements for both handset-based and network-based technologies in order to achieve E911 accuracy compliance at the county-level, the Bureau's September 2008 Public Notice seeking comment on these proposals, as well as the subsequent voluntary commitments by Verizon Wireless and Sprint Nextel to implement their proposed accuracy standards in connection with separate transactions approved by the Commission in 2008.

We also seek to refresh the record given that in response to the Bureau's September 2008 Public Notice, several parties proposed alternative timeframes for implementation of revised location accuracy standards, and approximately a year has passed since some of those proposals were made. For example, in addition to the timetables proposed by APCO, NENA, Verizon Wireless, Sprint, and AT&T, T-Mobile and the Rural Cellular Association suggested that several of the benchmarks proposed by AT&T should be extended by two years. We request that interested parties refresh the record on these proposed timeframes for implementation in light of the passage of time and any other relevant developments in the industry or economy.

Comment Filing Procedures

Interested parties may file comments on the above-referenced petition on or before November 20, 2009, and reply comments may be filed on or before December 4, 2009. All comments should reference the appropriate petition(s) and PS Docket No. 07-114.

All comments may be filed using: (1) The Commission's Electronic Comment Filing System (ECFS), (2) the Federal Government's eRulemaking Portal, or (3) by filing paper copies. See Electronic Filing of Documents in Rulemaking Proceedings, 63 FR 24121 (1998).

• Electronic Filers: Statements in support of or in opposition to the Petition and replies to such statements may be filed electronically using the Internet by accessing the ECFS: http://www.fcc.gov/cgb/ecfs or the Federal eRulemaking Portal: http://www.regulations.gov. Filers should follow the instructions provided on the website for submitting comments.

• For ECFS filers, in completing the transmittal screen, filers should include their full name, U.S. Postal Service mailing address, and the rulemaking number. Parties may also submit an electronic statement in support of or in opposition to the Petition and/or replies thereto by Internet e-mail. To get filing instructions, filers should send an e-mail to ecfs@fcc.gov and include the following words in the body of the message: “get form.” A sample form and directions will be sent in response.

• Paper Filers: Parties who choose to file by paper must file an original and four copies of each filing.

Filings can be sent by hand or messenger delivery, by commercial overnight courier, or by first-class or overnight U.S. Postal Service mail (although the Commission continues to experience delays in receiving U.S. Postal Service mail). All filings must be addressed to: Marlene H. Dortch, Office of the Secretary, Federal Communications Commission, 445 12th Street, SW., Washington, DC 20554. Parties must also serve one copy with the Commission's copy contractor, Best Copy and Printing, Inc. (BCPI), Portals II, 445 12th Street, SW., Room CY-B402, Washington, DC 20554, (202) 488-5300, or via e-mail to fcc@bcpiweb.com.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

• People with Disabilities: To request materials in accessible formats for people with disabilities (Braille, large print, electronic files, audio format), send an e-mail to fcc504@fcc.gov or call the Consumer & Governmental Affairs Bureau at 202-418-0530 (voice), 202-418-0432 (tty).

Documents submitted in PS Docket No. 07-114, including each petition, will be accessible via the Commission's ECFS (at: http://www.fcc.gov/cgb/ecfs) by listing 07-114 in the “Proceeding” search field. These documents also will be available for public inspection and copying during business hours at the FCC Reference Information Center, Portals II, 445 12th St., SW., Room CY A257, Washington, DC 20554. The documents may also be purchased from BCPI, telephone (202) 488-5300, facsimile (202) 488-5563, TTY (202) 488-5562, e-mail fcc@bcpiweb.com. Document DA 09-2397 can also be downloaded in Word or Portable Document Format (PDF) at: http://www.publicsafety.fcc.gov/pshs/releases/index.htm.

These matters shall be treated as “permit-but-disclose” proceedings in accordance with the Commission's ex parte rules. Persons making oral ex parte presentations are reminded that memoranda summarizing such presentations must contain summaries of the substance of the presentations and not merely a listing of the subjects discussed. More than a one- or two-sentence description of the views and arguments presented generally is required. Other requirements pertaining to oral and written presentations are set forth in section 1.1206(b) of the Commission's rules.

This document contains proposed new information collection requirements. The Commission, as part of its continuing effort to reduce paperwork burdens, invites the general public and the Office of Management and Budget (OMB) to comment on the information collection requirements contained in this document as required by the Paperwork Reduction Act of 1995, Public Law 104-13. In addition, the Commission notes that pursuant to the Small Business Paperwork Relief Act of 2002, Public Law 107-198, see 44 U.S.C. 3506(c)(4), we previously sought specific comment on how the Commission might “further reduce the information collection burden for small business concerns with fewer than 25 employees.”

For further information regarding this proceeding, contact David Siehl, Public Safety and Homeland Security Bureau, (202) 418-1313, david.siehl@fcc.gov.

Federal Communications Commission.
Thomas J. Beers,
Division Chief, Policy, Public Safety and Homeland Security Bureau.

[FR Doc. E9-27666 Filed 11-17-09; 8:45 am]

BILLING CODE 6712-01-P